FEDERAL COMMUNICATIONS COMMISSION

[OMB 3060-xxxx]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before February 2, 2015. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control No.: 3060-xxxx.

Title: Certification of TV Broadcast Licensee Technical Information in Advance of Incentive Auction.

Form No.: Form 2100, Schedule 381, Pre-Auction Technical Certification Form.

Type of Review: New information collection.

Respondents: Business or other for profit entities; not for profit institutions.

Number of Respondents and Responses: 2,170 respondents and 2,170 responses.

Estimated Time per Response: 2 hours.

Frequency of Response: One-time reporting requirement.

Obligation to Respond: Required to obtain or retain benefits. The statutory authority for this collection is contained in Public Law 112-96, §§ 6402 (codified at 47 U.S.C. 309(j)(8)(G)), 6403 (codified at 47 U.S.C. 1452), 126 Stat. 156 (2012) (Spectrum Act).

Total Annual Burden: 2,170 hours.

Annual Cost Burden: $542,500.

Privacy Act Impact Assessment: No impact(s).

Nature and Extent of Confidentiality: Some assurances of confidentiality are being provided to the respondents. Parties filing Form 2100, Schedule 381 may seek confidential treatment of information they provide pursuant to the Commission's existing confidentiality rules (See 47 CFR 0.459).

Needs and Uses: The information gathered in this collection will be used to support the Federal Communications Commission's efforts to hold an incentive auction, as required by the Middle Class Tax Relief and Job Creation Act of 2012 (Spectrum Act) (Pub. L. 112-96, §§ 6402 (codified at 47 U.S.C. 309(j)(8)(G)), 6403 (codified at 47 U.S.C. 1452), 126 Stat. 156 (2012)). In the Incentive Auction Order, the Commission directed the Media Bureau to develop a form to be submitted prior to the incentive auction by each full power and Class A broadcast licensee to certify that it has reviewed the technical data on file with the Commission related to its current license authorization and confirm that the technical data is correct with respect to actual operations FCC Form 2100, Schedule 381, Pre-Auction Technical Certification Form. See Expanding the Economic and Innovation Opportunities of Spectrum Through Incentive Auctions, Report and Order, GN Docket 12-268, Report and Order, 29 FCC Rcd 6567, 6820 (2014) (“Incentive Auction Order”). This data collection will also collect from licensees basic data regarding equipment currently in use at each licensed facility to facilitate the channel reassignment process following the completion of the incentive auction. Licensees will submit FCC Form 2100, Schedule 381 one time, at a deadline to be announced by the Media Bureau in advance of the incentive auction.

Federal Communications Commission.
Marlene H. Dortch,
Secretary, Office of the Secretary, Office of the Managing Director.

[FR Doc. 2014-28497 Filed 12-3-14; 8:45 am]

BILLING CODE 6712-01-P